SURFACE TRANSPORTATION BOARD

[Docket No. AB 511 (Sub-No. 8X)]

Central Railroad Company of Indianapolis—Abandonment Exemption—in Howard County, Ind.

Central Railroad Company of Indianapolis (CERA) has filed a verified notice of exemption under 49 CFR part 1152 subpart F—Exempt Abandonments to abandon two rail lines extending approximately 1.77 miles in the City of Kokomo, Howard County, Ind., consisting of the Tipton Industrial Lead from milepost 54.3 to milepost 55.6, and a segment of the Marion Subdivision from milepost 180.87 to milepost 181.26 (the Lines).¹ The Lines traverse U.S. Postal Service Zip Code 46903.

¹ CERA states that its initial consultation letter to the environmental agencies and the State Historic Preservation Office identified the endpoint of the Marion Subdivision as milepost 180.82 but that upon further review, CERA decided to abandon 0.05-miles less of that segment.

The verified notice states that the Tipton Industrial Lead segment of the Lines connects to a segment of rail line that is currently under a trail use agreement, see Cent. R.R. Co. of Indianapolis—Aban. Exemption—in Howard Cnty., Ind., Docket No. AB 511 (Sub-No. 6X), and contains three stations. The verified notice further states that the Marion Subdivision is stub-ended and includes seven stations. CERA states that following abandonment, the City of Kokomo intends to acquire the Lines for trail use.

CERA has certified that: (1) no local freight traffic has moved over the Lines for at least two years; (2) the Lines are stub-ended at both endpoints and, therefore, no overhead traffic exists; (3) no formal complaint filed by a user of rail service on the Lines (or by a state or local government on behalf of such user) regarding cessation of service over the Lines is pending with either the Surface Transportation Board (Board) or any U.S. District Court or has been decided in favor of a complainant within the two-year period; and (4) the requirements at 49 CFR 1105.7(b) and 1105.8(c) (notice of environmental and historic reports), 49 CFR 1105.12 (newspaper publication), and 49 CFR 1152.50(d)(1) (notice to government agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,² this exemption will be effective on February 22, 2026, unless stayed pending reconsideration. Petitions to stay that do not involve environmental issues,³ formal expressions of intent to file an OFA under 49 CFR 1152.27(c)(2), and interim trail use/railbanking requests under 49 CFR 1152.29 must be filed by February 2, 2026.⁴ Petitions to reopen and requests for public use conditions under 49 CFR 1152.28 must be filed by February 12, 2026.

² Persons interested in submitting an OFA must first file a formal expression of intent to file an offer, indicating the type of financial assistance they wish to provide (i.e., subsidy or purchase) and demonstrating that they are preliminarily financially responsible. See 49 CFR 1152.27(c)(2)(i).

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Filing fees for OFAs and trail use requests can be found at 49 CFR 1002.2(f)(25) and (27), respectively.

All pleadings, referring to Docket No. AB 511 (Sub-No. 8X), must be filed with the Surface Transportation Board either via e-filing on the Board's website or in writing addressed to 395 E Street SW, Washington, DC 20423-0001. In addition, a copy of each pleading must be served on CERA's representative, Justin J. Marks, Clark Hill PLC, 1001 Pennsylvania Avenue NW, Suite 1300 South, Washington, DC 20004.

If the verified notice contains false or misleading information, the exemption is void ab initio.

CERA has filed a combined environmental and historic report that addresses the potential effects, if any, of the abandonment on the environment and historic resources. OEA will issue a Draft Environmental Assessment (Draft EA) by January 30, 2026. The Draft EA will be available to interested persons on the Board's website, by writing to OEA, or by calling OEA at (202) 245-0294. If you require an accommodation under the Americans with Disabilities Act, please call (202) 245-0245. Comments on environmental or historic preservation matters must be filed within 15 days after the Draft EA becomes available to the public.

Environmental, historic preservation, public use, or trail use/rail banking conditions will be imposed, where appropriate, in a subsequent decision.

Pursuant to the provisions of 49 CFR 1152.29(e)(2), CERA shall file a notice of consummation with the Board to signify that it has exercised the authority granted and fully abandoned the Lines. If consummation has not been effected by CERA's filing of a notice of consummation by January 23, 2027, and there are no legal or regulatory barriers to consummation, the authority to abandon will automatically expire.

Board decisions and notices are available at www.stb.gov.

Decided: January 20, 2026.
By the Board, Anika S. Cooper, Chief Counsel, Office of Chief Counsel.
Andrea Pope-Matheson,
Clearance Clerk.

[FR Doc. 2026-01238 Filed 1-22-26; 8:45 am]

BILLING CODE 4915-01-P